FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Website (http://www.fmc.gov) or by contacting the Office of Agreements at (202)-523-5793 or tradeanalysis@fmc.gov.

Agreement No.: 011602-012.

Title: Grand Alliance Agreement II.

Parties: Hapag-Lloyd AG; Hapag-Lloyd USA LLC; Nippon Yusen Kaisha; Orient Overseas Container Line, Inc.; Orient Overseas Container Line Limited; and Orient Overseas Container Line (Europe) Limited.

Filing Party: Wayne R. Rohde, Esq.; Sher & Blackwell; 1850 M Street, NW.

Synopsis: The amendment deletes obsolete language, revises the voting and arbitration procedures, extends the duration, and restates the agreement.

Agreement No.: 012068-001.

Title: Grand Alliance/Zim/HSDG Atlantic Space Charter Agreement.

Parties: Hapag-Lloyd AG, Nippon Yusen Kaisha, Orient Overseas Container Lines Inc., Orient Overseas Container Line Limited, Orient Overseas Container Line (Europe) Limited, Zim Integrated Shipping Services Limited, and Hamburg Süd KG.

Filing Party: Wayne Rohde, Esq.; Sher & Blackwell LLP; 1850 M Street, NW., Suite 900; Washington, DC 20036.

Synopsis: The amendment revises the contribution of vessels under the agreement, provides for the sharing of space among the parties, makes conforming changes to the foregoing, and restates the agreement.

Agreement No.: 012085-001.

Title: 2007 Crane Purchase, Relocation and Modification Agreement Between Matson Navigation Company, Inc. and Horizon Lines, LLC.

Parties: Horizon Lines, LLC and Matson Navigation Company, Inc.

Filing Party: Matthew Thomas, Esq.; Reed Smith LLP; 301 K Street, NW. Suite 1100-East Tower; Washington, DC 20005.

Synopsis: The agreement details and clarifies the parties' authority to discuss and agree on matters related to use of cranes by third parties.

Agreement No.: 012093.

Title: CSAV/K-Line Space Charter and Sailing Agreement.

Parties: Compania Sud Americana de Vapores and Kawasaki Kisen Kaisha, Ltd.

Filing Parties: John P. Meade, Esq.; Vice-President; K-Line America, Inc.; 6009 Bethlehem Road; Preston, MD 21655.

Synopsis: The agreement authorizes the parties to exchange slots in the trade between U.S. East Coast ports and ports in Turkey.

Agreement No.: 201048-005.

Title: Lease and Operating Agreement between Philadelphia Regional Port Authority and Delaware River Stevedores, Inc.

Parties: Philadelphia Regional Port Authority and Delaware River Stevedores, Inc.

Filing Party: Paul D. Coleman, Esq.; Hoppel, Mayer & Coleman; 1050 Connecticut Avenue, NW., Tenth Floor; Washington, DC 20036.

Synopsis: The amendment revises the base rent for February and March 2010.

Agreement No.: 201160-002.

Title: Marine Terminal Lease and Operating Agreement Between Broward County and Mediterranean Shipping Company, S.A.

Parties: Broward County, Florida, and Mediterranean Shipping Company, S.A.

Filing Party: Candace J. Running; Broward County Board of County Commissioners; Office of the County Attorney; 1850 Eller Drive, Suite 502; Fort Lauderdale, FL 33316.

Synopsis: The amendment updates various provisions of the agreement.

By Order of the Federal Maritime Commission.
Dated: March 19, 2010.
Rachel E. Dickon,
Assistant Secretary.

[FR Doc. 2010-6491 Filed 3-23-10; 8:45 am]

BILLING CODE 6730-01-P